ENVIRONMENTAL PROTECTION AGENCY

40 CFR Part 52

Revision to the California State Implementation Plan, Great Basin Unified Air Pollution Control District

CFR Correction

In Title 40 of the Code of Federal Regulations, Part 52 (§§ 52.01 to 52.1018), revised as of July 1, 2010, on page 252, in § 52.220, paragraph (c)(345)(i)(D) is added to read as follows:

§ 52.220 Identification of plan.

* * * * *

(c) * * *

(345) * * *

(i) * * *

(D) Great Basin Unified Air Pollution Control District

(1) Rule 201, “Exemptions,” adopted on September 5, 1974 and revised on January 23, 2006.

* * * * *

[FR Doc. 2011-7432 Filed 3-28-11; 8:45 am]

BILLING CODE 1505-01-D